Title 3—

The President

Memorandum of April 5, 2013

Delegation of Functions Under Sections 404 and 406 of Public Law 112-208

Memorandum for the Secretary of State [and] the Secretary of the Treasury

By the authority vested in me as President by the Constitution and the laws of the United States of America, including section 301 of title 3, United States Code, I hereby delegate the functions conferred upon the President by sections 404 and 406 of Public Law 112-208 as follows:

I hereby delegate to the Secretary of the Treasury, in consultation with the Secretary of State, the functions and authorities set forth in:

• subsections 404(a), 404(b), and 404(d), with respect to the determinations provided for therein;

• subsection 404(c)(3);

• subsection 404(c)(4), consistent with subsection 404(f); and

• subsection 406(a)(1).

I hereby delegate to the Secretary of State, in consultation with the Secretary of the Treasury, the functions and authorities set forth in:

• subsections 404(a), 404(b), and 404(d), with respect to the submission of the list, updates, and reports described in those respective subsections;

• subsection 404(e); and subsections 404(c)(2) and 406(a)(2).

The Secretary of State is authorized and directed to publish this memorandum in the Federal Register.

THE WHITE HOUSE,

Washington, April 5, 2013

[FR Doc. 2013-09104

Filed 4-15-13; 11:15 am]

Billing code 4710-10